ENVIRONMENTAL PROTECTION AGENCY

[FRL-7070-9]

Federal Agency Hazardous Waste Compliance Docket

AGENCY: Environmental Protection Agency.

ACTION: Notice of fourteenth update of the Federal Agency Hazardous Waste Compliance Docket, pursuant to CERCLA section 120(c).

SUMMARY: Section 120(c) of the Comprehensive Environmental Response, Compensation, and Liability Act of 1980 (CERCLA), as amended by the Superfund Amendments and Reauthorization Act of 1986 (SARA), requires the Environmental Protection Agency (EPA) to establish a Federal Agency Hazardous Waste Compliance Docket. The docket is to contain certain information about Federal facilities that manage hazardous waste or from which hazardous substances have been or may be released. (As defined by CERCLA section 101(22), a release is any spilling, leaking, pumping, pouring, emitting, emptying, discharging, injecting, escaping, leaching, dumping, or disposing into the environment.) CERCLA requires that the docket be updated every six months, as new facilities are reported to EPA by Federal agencies. The following list identifies the Federal facilities to be included in this fourteenth update of the docket and includes facilities not previously listed on the docket and reported to EPA since the last update of the docket, 65 FR 83222, December 29, 2000, which was current as of August 28, 2000. SARA, as amended by the Defense Authorization Act of 1997, specifies that, for each Federal facility that is included on the docket during an update, evaluation shall be completed in accordance with a reasonable schedule. Such site evaluation activities will help determine whether the facility should be included on the National Priorities List (NPL) and will provide EPA and the public with valuable information about the facility. In addition to the list of additions to the docket, this notice includes a section that comprises revisions (that is, corrections and deletions) of the previous docket list. This update contains eleven additions and twenty-three deletions since the previous update, as well as numerous other corrections to the docket list. At the time of publication of this notice, the new total number of Federal facilities listed on the docket is 2,214.

DATES: This list is current as of May 1, 2001.

FOR FURTHER INFORMATION CONTACT: Electronic versions of the docket may be obtained at http://www.epa.gov/oeca/fedfac/oversight/oversight.html.

SUPPLEMENTARY INFORMATION:

Table of Contents

1.0 Introduction

2.0 Revisions of the Previous Docket

3.0 Process for Compiling the Updated Docket

4.0 Facilities Not Included

5.0 Facility Status Reporting

6.0 Information Contained on Docket Listing

1.0 Introduction

Section 120(c) of the Comprehensive Environmental Response, Compensation, and Liability Act of 1980 (CERCLA), 42 United States Code (U.S.C.) 9620(c), as amended by the Superfund Amendments and Reauthorization Act of 1986 (SARA), required the establishment of the Federal Agency Hazardous Waste Compliance Docket. The docket contains information on Federal facilities that is submitted by Federal agencies to the U.S. Environmental Protection Agency (EPA) under sections 3005, 3010, and 3016 of the Resource Conservation and Recovery Act (RCRA), 42 U.S.C. 6925, 6930, and 6937, and under section 103 of CERCLA, 42 U.S.C. 9603. Specifically, RCRA section 3005 establishes a permitting system for certain hazardous waste treatment, storage, and disposal (TSD) facilities; RCRA section 3010 requires waste generators and transporters and TSD facilities to notify EPA of their hazardous waste activities; and RCRA section 3016 requires Federal agencies to submit biennially to EPA an inventory of hazardous waste sites that the Federal agencies own or operate. CERCLA section 103(a) requires that the National Response Center (NRC) be notified of a release. CERCLA section 103(c) requires reporting to EPA the existence of a facility at which hazardous substances are or have been stored, treated, or disposed of and the existence of known or suspected releases of hazardous substances at such facilities.

The docket serves three major purposes: (1) To identify all Federal facilities that must be evaluated to determine whether they pose a risk to human health and the environment sufficient to warrant inclusion on the National Priorities List (NPL); (2) to compile and maintain the information submitted to EPA on such facilities under the provisions listed in section 120(c) of CERCLA; and (3) to provide a mechanism to make the information available to the public.

The initial list of Federal facilities to be included on the docket was published on February 12, 1988 (53 FR 4280). Updates of the docket have been published on November 16, 1988 (54 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); November 23, 1998 (63 FR 64806); June 12, 2000 (65 FR 36994); and December 29, 2000 (65 FR 83222). This notice constitutes the fourteenth update of the docket.

Today's notice is divided into three sections: (1) Additions, (2) deletions, and (3) corrections. The additions section lists newly identified facilities that have been reported to EPA since the last update and that now are being included on the docket. The deletions section lists facilities that EPA is deleting from the docket. The corrections section lists changes in information about facilities already listed on the docket.

The information submitted to EPA on each Federal facility is maintained in the docket repository located in the EPA Regional office of the Region in which the facility is located (see 53 FR 4280 (February 12, 1988) for a description of the information required under those provisions). Each repository contains the documents submitted to EPA under the reporting provisions and correspondence relevant to the reporting provisions for each facility. Contact the following docket coordinators for information on Regional docket repositories:

Gerardo Mill(à)n-Ramos (HBS), US EPA Region 1, #1 Congress St., Suite 1100, Boston, MA 02114-2023, (617) 918-1377

Helen Shannon (ERRD), US EPA Region 2, 290 Broadway, 18th Floor, New York, NY 10007-1866, (212) 637-4260

Alida Karas (ERRD), US EPA Region 2, 290 Broadway, New York, NY 10007-1866, (212) 637-4276

Cesar Lee (3HS50), US EPA Region 3, 841 Chestnut Bg., Philadelphia, PA 19107, (215) 814-3205

Gena Townsend (42D-FFB), US EPA Region 4, 61 Forsyth St., SW, Atlanta, GA 30303, (404) 562-8538

Laura Ripley (SE-5J), US EPA Region 5, 77 W. Jackson Blvd., Chicago, IL 60604, (312) 886-6040

Philip Ofosu (6SF-RA), US EPA Region 6, 1445 Ross Avenue, Dallas, TX 75202-2733, (214) 665-3178

D. Karla Asberry (FFSC) US EPA Region 7, 726 Minnesota Avenue, Kansas City, KS 66101, (913) 551-7595

Stan Zawistowski (EPR-F), US EPA Region 8, 999 18th Street, Suite 500, Denver, CO 80202-2466, (303) 312-6255

Avonda D. East (SFD-8), US EPA Region 9, 75 Hawthorne Street, San Francisco, CA 94105 (415) 744-2468

Deborah Leblang (ECL-115), US EPA Region 10, 1200 Sixth Avenue, Seattle, WA 98101, (206) 553-0115

Monica Lindeman (ECL, SACU2), US EPA Region 10, 1200 Sixth Avenue, Seattle, WA 98101, (206) 553-5113

2.0 Revisions of the Previous Docket

Following is a discussion of the revisions of the previous docket, including additions, deletions, and corrections.

2.1 Additions

Today, eleven facilities are being added to the docket, primarily because of new information obtained by EPA (for example, recent reporting of a facility pursuant to RCRA sections 3005, 3010, or 3016 or CERCLA section 103). SARA, as amended by the Defense Authorization Act of 1997, specifies that, for each Federal facility that is included on the docket during an update, evaluation shall be completed in accordance with a reasonable schedule.

Of the eleven facilities being added to the docket, none are facilities that have reported to the NRC the release of a reportable quantity (RQ) of a hazardous substance. Under section 103(a) of CERCLA, a facility is required to report to the NRC the release of a hazardous substance in a quantity that equals or exceeds the established RQ. Reports of releases received by the NRC, the U.S. Coast Guard (USCG), and EPA are transmitted electronically to the Transportation Systems Center at the U.S. Department of Transportation (DOT), where they become part of the Emergency Response Notification System (ERNS) database. ERNS is a national computer database and retrieval system that stores information on releases of oil and hazardous substances. Facilities being added to the docket and facilities already listed on the docket for which an ERNS report has been filed are identified by the notation “103(a)” in the “Reporting Mechanism” column.

It is EPA's policy generally not to list on the docket facilities that are small-quantity generators (SQG) and that have never generated more than 1,000 kilograms (kg) of hazardous waste in any single month. If a facility has generated more than 1,000 kg of hazardous waste in any single month (that is, if the facility is an episodic generator), it will be added to the docket. In addition, facilities that are SQGs and have reported releases under CERCLA section 103 or hazardous waste activities pursuant to RCRA section 3016 will be listed on the docket and will undergo site evaluation activities, such as a PA and, when appropriate, an SI. All such facilities will be listed on the docket, whether or not they are SQGs pursuant to RCRA. As a result, some of the facilities that EPA is adding to the docket today are SQGs that had not been listed on the docket but that have reported releases or hazardous waste activities to EPA under another reporting provision.

In the process of compiling the documents for the Regional repositories, EPA identified a number of facilities that had previously submitted PA reports, SI reports, Department of Defense (DoD) Installation Restoration Program (IRP) reports, or reports under another Federal agency environmental restoration program, but do not appear to have notified EPA under CERCLA section 103. Section 120(c)(3) of CERCLA requires that EPA include on the docket, among other things, information submitted under section 103. In general, section 103 requires persons in charge of a facility to provide notice of certain releases of hazardous substances. The reports under various Federal agency environmental restoration programs may contain information regarding releases of hazardous substances similar to that provided pursuant to section 103. EPA believes that CERCLA section 120(c) authorizes the agency to include on the docket a facility that has provided information to EPA through documents such as a report under a Federal agency environmental restoration program, regardless of the absence of section 103 reporting. Therefore, some of the facilities that EPA is adding today are being placed on the docket because they have submitted the documents described above that contain reports of releases of hazardous substances.

EPA also includes privately owned, government-operated (POGO) facilities on the docket. CERCLA section 120(c) requires that the docket contain information submitted under RCRA sections 3005, 3010, and 3016 and CERCLA section 103, all of which impose duties on operators as well as owners of facilities. In addition, other subsections of CERCLA section 120 refer to facilities “owned or operated” by an agency or other instrumentality of the Federal government. That terminology clearly includes facilities that are operated by the Federal government, even if they are not owned by it. Specifically, CERCLA section 120(e), which sets forth the duties of the Federal agencies after a facility has been listed on the NPL, refers to the Federal agency that “owns or operates” the facility. In addition, the primary basis for assigning responsibility for conducting PAs and SIs, as required when a facility is listed on the docket, is Executive Order 12580, which assigns that responsibility to the Federal agency having “jurisdiction, custody, or control” over a facility. An operator may be deemed to have jurisdiction, custody, or control over a facility.

2.2 Deletions

Today, twenty-three facilities are being deleted from the docket for various reasons, such as incorrect reporting of hazardous waste activity, change in ownership, and exemption as an SQG under RCRA (40 CFR 262.44). Facilities being deleted no longer will be subject to the requirements of CERCLA section 120(d).

2.3 Corrections

Changes necessary to correct the previous docket were identified by both EPA and Federal agencies. The changes needed varied from simple changes in addresses or spelling to corrections of the recorded name and ownership of a facility. In addition, some changes in the names of facilities were made to establish consistency in the docket. Many new entries are simply corrections of typographical errors. For each facility for which a correction has been entered, the original entry (designated by an “O”), as it appeared in the February 12, 1988 notice or subsequent updates, is shown directly below the corrected entry (designated by a “C”) for easy comparison.

3.0 Process for Compiling the Updated Docket

In compiling the newly reported facilities for the update being published today, EPA extracted the names, addresses, and identification numbers of facilities from four EPA databases—ERNS, the Biennial Inventory of Federal Agency Hazardous Waste Activities, the Resource Conservation and Recovery Information System (RCRIS), and the Comprehensive Environmental Response, Compensation, and Liability Information System (CERCLIS)—that contain information about Federal facilities submitted under the four provisions listed in CERCLA section 120(c).

Extensive computer checks compared the current docket list with the information obtained from the databases identified above to determine which facilities were, in fact, newly reported and qualified for inclusion on the update. In spite of the quality assurance efforts EPA has undertaken, state-owned or privately owned facilities that are not operated by the Federal government may have been included. Such problems are caused by procedures historically used to report and track data on Federal facilities; EPA is working to resolve them. Representatives of Federal agencies are asked to write to EPA's docket coordinator at the following address if revisions of this update information are necessary: Augusta K. Wills, Federal Agency Hazardous Waste Compliance Docket Coordinator, Federal Facilities Enforcement Office (Mail Code 2261A), U.S. Environmental Protection Agency, 1200 Pennsylvania Avenue NW., Washington, DC 20004.

4.0 Facilities Not Included

As explained in the preamble to the original docket (53 FR 4280), the docket does not include the following categories of facilities (note, however, that any of these types of facilities may, when appropriate, be listed on the NPL):

• Facilities formerly owned by a Federal agency and now privately owned will not be listed on the docket. However, facilities that are now owned by another Federal agency will remain on the docket and the responsibility for conducting PAs and SIs will rest with the current owner.

• SQGs that have never produced more than 1,000 kg of hazardous waste in any single month and that have not reported releases under CERCLA section 103 or hazardous waste activities under RCRA section 3016 will not be listed on the docket.

• Facilities that are solely transporters, as reported under RCRA section 3010, will not be listed on the docket.

5.0 Facility Status Reporting

EPA has expanded the docket database to include information on the NFRAP status of listed facilities. Indicating NFRAP status allows easy identification of facilities that, after submitting all necessary site assessment information, were found to warrant no further involvement on the part of EPA at the time of the status change. Accordingly, the docket database includes the following facility status codes:

U = Undetermined

N = No further remedial action planned (NFRAP)

NFRAP is a term used in the Superfund site assessment program to identify facilities for which EPA has found that currently available information indicates that listing on the NPL is not likely and further assessment is not appropriate at the time. NFRAP status does not represent an EPA determination that no environmental threats are present at the facility or that no further environmental response action of any kind is necessary. NFRAP status means only that the facility does not appear, from the information available to EPA at this time, to warrant listing on the NPL and that, therefore, EPA anticipates no further involvement by EPA in site assessment or cleanup at the facility. However, additional CERCLA response actions by the Federal agency that owns or operates the facility, whether remedial or removal actions, may be necessary at a facility that has NFRAP status. The status information contained in the docket database is the result of Regional evaluation of information taken directly from CERCLIS. (CERCLIS is a database that helps EPA Headquarters and Regional personnel manage sites, programs, and projects. It contains the official inventory of all CERCLA (NPL and non-NPL) sites and supports all site planning and tracking functions. It also integrates financial data from preremedial, remedial, removal and enforcement programs.) The status information was taken from CERCLIS and sent to the Regional docket coordinators for review. The results of those reviews were incorporated into the status field in the docket database. Subsequently, an updated list of facilities having NFRAP status (those for which an “N” appears in the status field) was generated; the list of updates since the previous publication of the docket is being published today.

Important limitations apply to the list of facilities that have NFRAP status. First, the information is accurate only as of May 1, 2001. Second, a facility's status may change at any time because of any number of factors, including new site information or changing EPA policies. Finally, the list of facilities that have NFRAP status is based on Regional review of CERCLIS data, is provided for information purposes only, and should not be considered binding upon either the Federal agency responsible for the facility or EPA.

The status information in the docket database will be reviewed and a new list of facilities classified as NFRAP will be published at each docket update.

6.0 Information Contained on Docket Listing

As discussed above, the update information below is divided into three separate sections. The first section is a list of new facilities that are being added to the docket. The second section is a list of facilities that are being deleted from the docket. The third section comprises corrections of information included on the docket. Each facility listed for the update has been assigned a code(s) that indicates a more specific reason(s) for the addition, deletion, or correction. The code key precedes the lists.

SARA, as amended by the Defense Authorization Act of 1997, specifies that, for each Federal facility that is included on the docket during an update, evaluation shall be completed in accordance with a reasonable schedule. Therefore, all facilities on the additions list to this fourteenth docket update must submit a PA and, if warranted, an SI to EPA. The PA must include existing information about a site and its surrounding environment, including a thorough examination of human, food-chain, and environmental targets, potential waste sources, and migration pathways. From information in the PA or other information coming to EPA's attention, EPA will determine whether a follow-up SI is required. An SI augments the data collected in a PA. An SI may reflect sampling and other field data that are used to determine whether further action or investigation is appropriate. This policy includes any facility for which there is a change in the identity of the responsible Federal agency. The reports should be submitted to the Federal facilities coordinator in the appropriate EPA Regional office.

The facilities listed in each section are organized by state and then grouped alphabetically within each state by the Federal agency responsible for the facility. Under each state heading is listed the name and address of the facility, the Federal agency responsible for the facility, the statutory provision(s) under which the facility was reported to EPA, and the correction code(s).

The statutory provisions under which a facility reported are listed in a column titled “Reporting Mechanism.” Applicable mechanisms are listed for each facility: for example 3010, 3016, and 103(c).

The complete list of Federal facilities that now make up the docket and the complete list of facilities classified as no further remedial action planned (NFRAP) are not being published today. However, the lists are available to interested parties and can be obtained at http://www.epa.gov/oeca/fedfac/oversight/oversight.html or by calling the HQ Docket Coordinator at (202) 564-2468. As of today, the total number of Federal facilities that appear on the docket is 2,214.

Dated: September 26, 2001.
Craig E. Hooks,
Director, Federal Facilities Enforcement Office.

Docket Revisions

Categories of Revisions for Docket Update by Correction Code

Categories for Deletion of Facilities

(1) Small-Quantity Generator

(2) Not Federally Owned

(3) Formerly Federally Owned

(4) No Hazardous Waste Generated

(5) (This correction code is no longer used.)

(6) Redundant Listing/Site on Facility

(7) Combining Sites Into One Facility/Entries Combined

(8) Does Not Fit Facility Definition

(9) (This correction code is no longer used.)

(10) (This correction code is no longer used.)

(11) (This correction code is no longer used.)

(12) (This correction code is no longer used.)

(13) (This correction code is no longer used.)

(14) (This correction code is no longer used.)

Categories for Addition of Facilities

(15) Small-Quantity Generator With Either a RCRA 3016 or CERCLA 103 Reporting Mechanism

(16) One Entry Being Split Into Two/Federal Agency Responsibility Being Split

(17) New Information Obtained Showing That Facility Should Be Included

(18) Facility Was a Site on a Facility That Was Disbanded; Now a Separate Facility

(19) Sites Were Combined Into One Facility

(19A) New Facility

Categories for Corrections of Information About Facilities

(20) Reporting Provisions Change

(20A) Typo Correction/Name Change/Address Change

(21) Changing Responsible Federal Agency (New Responsible Federal Agency Must Submit proof of previously performed PA, which is subject to approval by EPA)

(22) Changing Responsible Federal Agency and Facility Name (New Responsible Federal Agency Must Submit proof of previously performed PA, which is subject to approval by EPA)

(23) New Reporting Mechanism Added at Update

(24) Reporting Mechanism Determined to Be Not Applicable After Review of Regional Files

Note: Further information on definitions of categories can be obtained by calling the HQ Docket Coordinator at (202) 564-2468.

Federal Agency Hazardous Waste Compliance Docket Update #14 Additions
Facility name | Facility address | City | State | ZIP | Agency | Reporting mechanism | Addition code
ALASKA TOK FUEL TERMINAL | 7 MI W OF TAK ALASKA HWY 2 | TOK | AK | 99780 | ARMY | 3010 | 19A
USARMY PARKS R F T A | 5TH ST BLDG. 790 | DUBLIN | CA | 94568-5201 | ARMY | 3010 | 19A
FORMER LOWRY AFB TITAN MISSILE SITE 1 COMPLEX 2A | 5 MILES SOUTH OF EAST QUINCY AV AND | AURORA | CO | 80137 | AIR FORCE | 103c | 19A
ATLAS “E” MISSILE SITE #10 | 3½ MILES NORTHWEST OF BRIGGSDALE | BRIGGS DALE | CO | 80611 | AIR FORCE | 103c | 19A
NATIONAL GUARD STONE'S RANCH MILITARY RESERVATION | ROUTE 1 (BOSTON POST ROAD) AND STONE'S RANCH ROAD | EAST LYME | CT |  | ARMY | 103c | 19A
ST LOUIS (EX) ORDNANCE PLANT | 4300 GOODFELLOW BLVD | ST LOUIS | MO | 63120 | ARMY | 103c | 19A
FWS-BOZEMAN FISH TECH CENTER | 4050 BRIDGER CANYON ROAD | BOZEMAN | MT | 59715-4050 | INTERIOR | 3010 | 19A
ARMY AVIATION SUPPORT FACILITY | 624 MUNICIPAL AIRPORT | LINCOLN | NE | 68524 | ARMY | 103c | 17
DESCHUTES NF: DELL SPRINGS FORMER FS WORK CAMP | 11 AIR MI WNW OF CRESCENT T23S R7E S35 SW SE | CRESCENT | OR | 97733 | AGRICULTURE | 103c | 19A
BLM-GLASS BUTTES RETORTS | 3 MI S OF MILEPOST 82 OFF HWY 20, 20 MI SE OF HAMPTON, T 23 S, R 23 E | BROTHERS | OR | 97712 | INTERIOR | 103a | 19A
BLM-RAWLINGS LANDFILL | P.O. BOX 953 | RAWLINS | WY | 82301 | INTERIOR | 103c | 19A

Federal Agency Hazardous Waste Compliance Docket Update #14 Deletions
Facility name | Facility address | City | State | ZIP | Agency | Reporting mechanism | Code
NEAL SMITH PROPERTY | RT #1 | ASHDOWN | AR | 71822 |  | 3016 | 2
928TH TACTICAL UNIT | CHICAGO O'HARE AIRPORT | CHICAGO | IL | 60666 | AIR FORCE | 3010, 3016, 103a | 2
TALLEY DEFENSE SYSTEMS JAAPGP64 | 6 MILES S OF ELWOOD OFF RT 53 | ELWOOD | IL | 60421 | DEFENSE | 3010, 3005 | 6
LAKESHORE TERMINAL COMPANY, HARRISVILLE DFSP | US HWY 23 | HARRISVILLE | MI | 48740 | DEFENSE | 103c, 3010 | 2
BAY CITY CERT SITE | 9TH ST & 18TH ST W OF SAGINAW ST & WATER ST | BAY CITY | MI | 48708 | EPA | 3010 | 3
ELECTRO VOICE | 600 CECIL ST | BUCHANAN | MI | 49107 | EPA | 3010 | 2
DETROIT POSTAL SERVICE | 1365 W FORT ST | DETROIT | MI | 48233 | POSTAL SERVICE | 3010 | 1
HIGHLAND PARK POST OFFICE | 13215 WOODWARD | HIGHLAND PARK | MI | 48203 | POSTAL SERVICE | 3010 | 4
ROSEVILLE POST OFFICE | 30550 GRATIOT AVE | ROSEVILLE | MI | 48066 | POSTAL SERVICE | 3010 | 1
YELLOW CREEK PRODUCTION FACILITY | 1 NASA DRIVE | IUKA | MS | 38852 | NASA | 103c, 3010, 3005 | 2
CARLSBAD WASTE ISOLATION PLANT | PO BOX 207 | CARLSBAD | NM |  | ENERGY | 103a | 7
BR-MONTEREY CONSTRUCTION COMPANY | 12 MI. N OF CARLSBAD OFF HWY 285 | CARLSBAD | NM | 88220 | INTERIOR | 3010, 103c | 2
BAINBRIDGE SITE | 504 RESERVOIR RD | BAINBRIDGE | OH | 45612 | CORPS OF ENGINEERS, CIVIL | 3010 | 1
WEST FORK LAKE BRIDGE | BRIDGE AT WEST FORK LAKE | CINCINNATI | OH | 45240 | CORPS OF ENGINEERS, CIVIL | 3010 | 4
DELAWARE SITE | 3920 US 23 NORTH | DELAWARE | OH | 43015 | CORPS OF ENGINEERS, CIVIL | 3010 | 1
MARIETTA SITE | OHIO AND POST ST | MARIETTA | OH | 45740 | CORPS OF ENGINEERS, CIVIL | 3010 | 1
MOUNT STERLING SITE | 21897 DEER CREEK LAKE | MT STERLING | OH | 43143 | CORPS OF ENGINEERS, CIVIL | 3010 | 1
CAESAR CREEK LAKE BRIDGE | BRIDGE AT CAESAR CREEK LAKE | WAYNESVILLE | OH | 45068 | CORPS OF ENGINEERS, CIVIL | 3010 | 1
ZANESVILLE SITE | 4969 DILLON DAM RD | ZANESVILLE | OH | 43701 | CORPS OF ENGINEERS, CIVIL | 3010 | 1
LONE MOUNTAIN POLLUTION CONTROL FACILITY | JUNCTION HWY 281 & 412 | WAYNOKA | OK |  |  | 103a | 2
SPATZ AIRBASE | 902 CARTER | HONDO | TX | 78861 | CORPS OF ENGINEERS, CIVIL | 3010 | 2
PERRIN AIR FORCE BASE | GRAYON CNTY | SHERMAN | TX | 75090 | AIR FORCE | 103c | 2
OFF-SPECIFICATION FERTILIZER SITE | RURAL WALKER COUNTY |  | TX |  |  | 103c | 2

Federal Agency Hazardous Waste Compliance Docket Update #14 Corrections
| Facility name | Facility address | City | State | ZIP | Agency | Reporting mechanism | Correction code
c | ANNISTON ARMY DEPOT | 7 FRANKFORD AVENUE | ANNISTON | AL | 36201-4199 | ARMY | 3005, 3010, 3016, 3103C | 20A
o | ANNISTON ARMY DEPOT | SDSAN-DS-FE | ANNISTON | AL | 36201-5080 | ARMY | 3005, 3010, 3016, 103c |
c | BLM-TANACROSS AIRFIELD | 1 MI S OF TANACROSS ON AK HWY 63° 22′00″ N, 143° 20′ 00″ W | TANACROSS | AK | 99776 | INTERIOR | 103c | 20A
o | BLM-TANACROSS AIRFIELD | 63D22MOOS2 | TANACROSS | AK | 99776 | INTERIOR | 103C |
c | LUKE AIR FORCE RANGE | BOUNDED BY I-8 & MEXICAN BORDER | GILA BEND | AZ | 85337 | AIR FORCE | 3005, 3010, 3016, 103c | 20a
o | LUKE AIR FORCE BASE | 832 CSG/DE | LUKE AIR FORCE BASE | AZ | 85309 | AIR FORCE | 3005, 3010, 3016, 103c |
c | MARCH AIR FORCE BASE | OLDB MARCH 3430 BUNDY AVENUE | MARCH AFB | CA | 92518-1504 | AIR FORCE | 3005, 3010, 3016, 103c, 103a | 20A
o | MARCH AIR FORCE BASE | 22CSG/CC | MARCH AFB | CA | 92518 | AIR FORCE | 3005, 3010, 3016, 103c, 103a |
c | SHAVER LAKE LANDFILL | DINKEY CREEK ROAD | SHAVER LAKE | CA | 93664 | AGRICULTURE | 103c | 21
o | SHAVER LAKE LANDFILL | DINKEY CREEK ROAD | SHAVER LAKE | CA | 93664 | INTERIOR | 103c |
c | SISKON MINE | T14N, R5E, SECS. 20-29 | SOMES BAR | CA | 95568 | AGRICULTURE | 103c | 21
o | SISKON MINE | T14N, R5E, SECS. 20-29 | SOMES BAR | CA | 95568 | INTERIOR | 103c |
c | HERLONG MUNITIONS | 705 HALL STREET | SUSANVILLE | CA | 96130 | DEFENSE | 3016 | 21
o | HERLONG MUNITIONS | 705 HALL STREET | SUSANVILLE | CA | 96130 | INTERIOR | 3016 |
c | USNASA BOEING SSFL AREA II | SANTA SUSANA FIELD LAB NASA | SIMI HILLS | CA | 91311 | NASA | 3005, 3010, 3016, 103c | 20A
o | ROCKWELL INTERNATIONAL-ROCKETDYNE DIV (NASA) | WOOLSEY CANYON RD. | SIMI HILLS | CA | 93063 | NASA | 3005, 3010, 3016, 103c |
c | NAVAL AIR WEAPONS STATION CHINA LAKE | 1 ADMINISTRATION CIRCLE | CHINA LAKE | CA | 93555-6001 | NAVY | 3005, 3010, 3016, 103c | 20A
o | CHINA LAKE NAVAL WEAPONS STATION | CODE 2632 | CHINA LAKE | CA | 93555 | NAVY | 3005, 3010, 3016, 103c |
c | HQ FORT CARSON 7TH ID DECAM | 801 TEVIS STREET BLDG. 302 | FORT CARSON | CO | 80913-4000 | ARMY | 3005, 3010, 3016, 103c | 20A
o | FORT CARSON | DFAE BLDG. 304, AFZC-FE-EQ | FT. CARSON | CO | 80913 | ARMY | 3005, 3010, 3016, 103c |
c | PUEBLO CHEMICAL DEPOT | 45825 HWY 96 EAST | PUEBLO | CO | 81006-9330 | ARMY | 3005, 3010, 3016, 103c | 20A
o | PUEBLO ARMY DEPOT | I-50, 13 MI. E. OF PUEBLO | PUEBLO | CO | 81002 | ARMY | 3005, 3010, 3016, 103c |
c | WASHINGTON, HEADQUARTERS | 600 INDEPENDENCE AVE SW | WASHINGTON | DC | 20546 | GENERAL SERVICES ADMINISTRATION | 3010 | 21
o | WASHINGTON, HEADQUARTERS | 600 INDEPENDENCE AVE SW | WASHINGTON | DC | 20546 | NASA | 3010 |
c | WASHINGTON NAVY YARD | 1014 N STREET SE SUITE 3207 | WASHINGTON | DC | 20374-5001 | NAVY | 3010, 103c, 3016 | 20A
o | WASHINGTON NAVY YARD | 7TH & M STREETS, S.W. | WASHINGTON | DC | 20374 | NAVY | 3010, 103c, 3016 |
c | ROBINS AIR FORCE BASE | 455 BYRON STREET, SUITE 465 | ROBINS AFB | GA | 31098-1860 | AIR FORCE | 3005, 3010, 3016, 103c, 103a | 20A
o | ROBINS AIR FORCE BASE | WR-ALC/EM | WARNER ROBINS BASE | GA | 31098 | AIR FORCE | 3005, 3010, 3016, 103c, 103a |
c | NAVAL AIR STATION WHITING FIELD | 7550 USS ESSEX STREET SUITE 200 | MILTON | FL | 32570-6155 | NAVY | 3010, 103c | 20A
o | WHITING FIELD NAVAL AIR STATION | FL HWY 87 A | MILTON | FL | 32570 | NAVY | 3010, 103c |
c | IDAHO NATIONAL ENGINEERING AND ENVIRONMENTAL LABORATORY | US HWY 20/26, 40 MI WEST OF IDAHO FALLS | SCOVILLE | ID | 83401 | ENERGY | 3005, 3010, 3016, 103c, 103a | 20A
o | IDAHO NATIONAL ENGINEERING LABORATORY | US HWY 20/26, 40 MI WEST OF IDAHO FALLS | SCOVILLE | ID | 83401 | ENERGY | 3005, 3010, 3016, 103c, 103a |
c | BLM-COURIER GULCH | 0.3 MI N OF CITY, T4N R18E S25 NE¼ SW¼ | TRIUMPH | ID | 83333 | INTERIOR | 3010, 103c | 20, 20A
o | BLM-COURIER GULCH | 0.3 MI N OF CITY | TRIUMPH | ID | 83333 | INTERIOR | 103c |
c | CHANUTE AIR FORCE BASE | OL-B AFBCA 1 AVIATION CENTER DRIVE, SUITE 101 | RANTOUL | IL | 61866 | AIR FORCE | 3005, 3010, 3016, 103c | 20A
o | CHANUTE AIR FORCE BASE | 3345 ABG/DE | RANTOUL | IL | 61868 | AIR FORCE | 3005, 3010, 3016, 103c |
c | AURORA POST OFFICE SITE (NEW) | N BROADWAY (RT. 25) AND INDIANA CIRCLE | AURORA | IL | 60505 | POSTAL SERVICE | 103c | 20A
o | AURORA POST OFFICE | N BROADWAY (RT. 25) AND INDIANA CIRCLE | AURORA | IL | 60505 | POSTAL SERVICE | 103c |
c | US GSA FPRS CASAD DEPOT | STATE RT. 14 | NEW HAVEN | IN | 46744 | DEFENSE LOGISTICS AGENCY | 3010, 301c | 20A
o | NEW HAVEN DEFENSE LOGISTICS AGENCY DEPOT | STATE RT. 14 | NEW HAVEN | IN | 46744 | DEFENSE LOGISTICS AGENCY | 3010, 103c |
c | US ARMY COMBINED ARMS CENTER | 853 W WAREHOUSE | FORT LEAVENWORTH | KS | 66027 | ARMY | 3005, 3010, 3016, 103c | 20A
o | COMBINED ARMS CENTER & FORT LEAVENWORTH | FT. LEAVENWORTH RESERVATION DEH-BLDG 85 | FT. LEAVENWORTH | KS | 66027 | ARMY | 3005, 3010, 3016, 103c |
c | HQ. 101ST AIRBORNE DIV. (AASLT) FT. CAMPBELL | HWY 41-A N AT STATE LINE | FORT CAMPBELL | KY | 42223 | ARMY | 3005, 3010, 3016, 103c | 20A
o | HQ. 101ST AIRBORNE DIV. (AASLT) FT. CAMPBELL | ATTN AFZB-DPW-E-P | FORT CAMPBELL | KY | 42223 | ARMY | 3005, 3010, 3016, 103c |
c | USAARMC & FORT KNOX | US HWY 31 WEST | FORT KNOX | KY | 40121 | ARMY | 3005, 3010, 3016, 103a, 103c | 20A
o | USAARMC & FORT KNOX | US HWY 32 WEST | FORT KNOX | KY | 40121 | ARMY | 3005, 3010, 3016, 103a, 103c |
c | USPFO FOR KENTUCKY | 120 MINUTEMAN PKWY (BLDG120) | FRANKFORT | KY | 40601-6192 | ARMY | 3010, 103c | 20A
o | USPFO FOR KENTUCKY | BOONE NATIONAL GUARD CENTER, P* | FRANKFORT | KY | 40601 | ARMY | 3010, 103c |
c | BLUE GRASS ARMY DEPOT, RICHMOND | 2091 KINGSTON HWY | RICHMOND | KY | 40475 | ARMY | 3005, 103c, 3010 | 20A
o | LEXINGTON BLUEGRASS DEPOT ACTIVITY | US HWY 421 | RICHMOND | KY | 40475 | ARMY | 3005, 103c, 3010 |
c | ENGLAND AIR FORCE BASE | 1719 CHAPPIE JAMES | ALEXANDRIA | LA | 71303 | AIR FORCE | 3005, 3010, 3016, 103c | 20A
o | ENGLAND AIR FORCE BASE | 23 CSG/DE | ENGLAND AFB | LA | 71311 | AIR FORCE | 3005, 3010, 3016, 103c |
c | NAVAL AIR STATION PATUXENT RIVER | 22268 CEDAR POINT ROAD | PATUXENT RIVER | MD | 20670-5409 | NAVY | 3005, 3010, 3016, 103c, 103a | 20A
o | PATUXENT RIVER NAVAL AIR STATION | NE OF ROUTE 235 | PATUXENT RIVER | MD | 20670 | NAVY | 3005, 3010, 3016, 103c, 103a |
c | LT JOHN A. FERRA US ARMY RESERVE CENTER | NORTH ST | DANVERS | MA | 01923 | ARMY | 103c | 20A
o | DANVERS ARMY RESERVE CENTER | NORTH ST | DANVERS | MA | 01923 | ARMY | 103c |
c | NAVAL AIR STATION BRUNSWICK | 1251 ORION STREET | BRUNSWICK | ME | 04011-5009 | NAVY | 3005, 3010, 3016, 103c, 103a | 20A
o | BRUNSWICK NAVAL AIR STATION | BOUNDED BY ROUTES 24 & 123 | BRUNSWICK | ME | 04011 | NAVY | 3005, 3010, 3016, 103c, 103a |
c | PHELPS/COLLINS ANG BASE | AIRPORT ROAD | ALPENA | MI | 49704 | AIR FORCE | 3010, 3016, 103a, 103c | 20A
o | PHELPS/COLLINS AIRPORT | AIRPORT ROAD | ALPENA | MI | 49707 | AIR FORCE | 3010, 3016, 103a, 103c |
c | BIA-SHAKOPEE DUMP | SECTION 1 T115N R23W | SHAKOPEE | MN | 55379 | INTERIOR | 103c | 20A
o | BIA-SHAKOPEE DUMP | T115NR23W | SHAKOPEE | MN |  | INTERIOR | 103c |
c | MINOT AIR FORCE BASE | 5 CES CE 320 PEACEKEEPER PLACE | MINOT AIR FORCE BASE | ND | 58705-5006 | AIR FORCE | 3005, 3010, 3016, 103c | 20A
o | MINOR AIR FORCE BASE | 41 CSG/CC | MINOT AFB | ND | 58705 | AIR FORCE | 3005, 3010, 3016, 103c |
c | WASTE ISOLATION PILOT PLANT | 30 MILES E OF CARLSBAD/JAL HWY | CARLSBAD | NM | 88221 | ENERGY | 3005, 3010, 103a, 3016 | 23
o | WASTE ISOLATION PILOT PLANT | 30 MILES E OF CARLSBAD/JAL HWY | CARLSBAD | NM | 88221 | ENERGY | 3016 |
c | GLENN RESEARCH CENTER AT LEWIS FIELD | 6100 BROOKPARK ROAD | CLEVELAND | OH | 44135 | NASA | 3010, 3016, 103a, 103c | 20A
o | LEWIS RESEARCH CENTER CLEVELAND | 2100 BROOKPARK ROAD | CLEVELAND | OH | 44135 | NASA | 3010, 3016, 103a, 103c |
c | MCALESTER ARMY AMMUNITION PLANT | 1 C TREE RD | MCALESTER | OK | 74501-9002 | ARMY | 3005, 3010, 3016, 103c | 20A
o | MCALESTER ARMY AMMUNITION PARK | HIGHWAY 69 | MCALESTER | OK | 74501 | ARMY | 3005, 3010, 3016, 103c |
c | NORTH PACIFIC DIVISION MATERIALS LABORATORY | 1491 NW GRAHAM AVE | TROUTDALE | OR | 97060 | CORPS OF ENGINEERS, CIVIL | 3010, 103c | 20A
o | NORTH PACIFIC DIVISION MATERIALS LABORATORY | 1491 NW GRAHAM AVE | TROUTDALE | OR | 97050 | CORPS OF ENGINEERS, CIVIL | 3010, 103c |
c | FWS-SACHUEST POINT NATIONAL WILDLIFE REFUGE | P.O. BOX 307 | MIDDLETOWN | RI | 02813 | INTERIOR | 103c | 20A
o | FWS-SACHUEST POINT NATIONAL WILDLIFE REFUGE | P.O. BOX 307 | CHARLESTOWN | RI | 02813 | INTERIOR | 103c |
c | NAVAL SUPPORT ACTIVITY MID-SOUTH (BRAC NAS MEMPHIS) | 5722 INTEGRITY DRIVE | MILLINGTON | TN | 38054-5045 | NAVY | 3005, 3010, 3016, 103c,103a | 20A
o | MEMPHIS NAVAL AIR STATION | MILLINGTON-ARLINGTON ROAD | MILLINGTON | TN | 38054 | NAVY | 3005, 3010, 3016, 103c, 103a |
c | US NAVY SOUTHNAVFACENG COM (BRAC NAS DALLAS) | 8100 W JEFFERSON AVENUE | DALLAS | TX | 75211 | NAVY | 3005, 3010, 3016, 103c | 20A
o | DALLAS NAVAL AIR STATION | JEFFERSON AVENUE | GRAND PRAIRIE | TX | 75222 | NAVY | 3005, 3010, 3016, 103c |
c | VERMONT AIR NATIONAL GUARD | 10 FALCON STREET, SUITE A | SOUTH BURLINGTON | VT | 05403-5873 | AIR FORCE | 3010, 103c, 3016 | 20A
o | VERMONT AIR NATIONAL GUARD | BURLINGTON IAP | BURLINGTON | VT | 05401 | AIR FORCE | 3010, 103c, 3016 |
c | US ARMY ENGINEERING CENTER FORT BELVOIR | 9430 JACKSON LOOP | FORT BELVOIR | VA | 22060-5130 | ARMY | 3005, 3010, 3016, 103c | 20A
o | FORT BELVOIR | ATZA-DEH-EN BLDG 1442, WILLIAMS HALL | FORT BELVOIR | VA | 22060-5113 | ARMY | 3005, 3010, 3016, 103c |
c | MARINE CORPS COMBAT DEVELOPMENT COMMAND QUANTICO | 3250 CATLIN AVENUE | QUANTICO | VA | 22134-5001 | NAVY | 3005, 3010, 3016, 103c | 20A
o | QUANTICO MARINE CORPS COMBAT DEVELOPMENT CENTER | N/A | QUANTICO | VA | 22134-5001 | NAVY | 3005, 3010, 3016, 103c |
c | FS-OKANOGAN-WENATCHEE NF: | 19284 HWY 20, 300 FT W OF DOWNTOWN | WINTHROP | WA | 98862 | AGRICULTURE | 103c | 20A
| LOWER WINTHROP COMPOUND | WINTHROP |  |  |  |  |  |
o | FS-OKANOGAN-WENATCHEE NF: WINTHROP LOWER COMPOUND | HWY 20, 300 FT W OF DOWNTOWN WINTHROP | WINTHROP | WA | 98862 | AGRICULTURE | 103c |
c | FS-OKANOGAN-WENATCHEE NF: NORTH CASCADES SMOKEJUMPER BASE | 23 INTERCITY AIRPORT RD, 3 MI SE OF WINTHROP | WINTHROP | WA | 98862 | AGRICULTURE | 103c | 20A
o | FS-OKANOGAN-WENATCHEE NF: NORTH CASCADES SMOKE JUMPER BASE | 23 INTERCITY AIRPORT RD 5 MI N OF TWISP | TWISP | WA | 98862 | AGRICULTURE | 103c |
c | BLACKWELL SANITARY LANDFILL/NICOLET NATIONAL FOREST | SECTION 11 T35N R15E | BLACKWELL | WI | 54541 | AGRICULTURE | 103c, 103a, 3016 | 20A
o | NICOLET NF: LAONA SANITARY LANDFILL | SECTION 11 T35N R15E | BLACKWELL | WI | 54541 | AGRICULTURE | 103c, 103a, 3016 |
c | VANCOUVER NATIONAL GUARD BARRACKS | HQ. VANCOUVER BARRACKS B-638 | VANCOUVER | WA | 98661 | ARMY | 3010, 3016, 103c | 20
o | VANCOUVER NATIONAL GUARD BARRACKS | HQ. VANCOUVER BARRACKS B-638 | VANCOUVER | WA | 98661 | ARMY | 3016, 103c |
c | YAKIMA FIRING CENTER | I-82, 4 MI N OF CITY | YAKIMA | WA | 98901 | ARMY | 3005, 3010, 3016, 103c | 20A
o | YAKIMA FIRING CENTER | 182 4 MI N OF CITY | YAKIMA | WA | 98901 | ARMY | 3005, 3010, 3016, 103c |
c | CAMP WESLEY HARRIS MARINE FACILITY | SEABECK HWY 3 MI W OF CY | BREMERTON | WA | 98310 | NAVY | 3010, 103c | 20
o | CAMP WESLEY HARRIS MARINE FACILITY | SEABECK HWY 3 MI W OF CY | BREMERTON | WA | 98310 | NAVY | 103c |
c | JACKSON PARK HOUSING COMPLEX | AUSTIN DRIVE AT SHORE DRIVE | BREMERTON | WA | 98312 | NAVY | 3010, 3016, 103c | 20A
o | JACKSON PARK HOUSING | AUSTIN DRIVE AT SHORE DRIVE | BREMERTON | WA | 98312 | NAVY | 3010, 3016, 103c |
c | PUGET SOUND NAVAL SHIPYARD | 1ST STREET CODE 106 | BREMERTON | WA | 98314-5000 | NAVY | 3005, 3010, 3016, 103c, 103a | 20A
o | PUGET SOUND NAVAL SHIPYARD | 1ST STREET CODE 106 | BREMERTON | WA | 98314 | NAVY | 3005, 3010, 3016, 103c, 103a |
c | NAVAL UNDERSEA WARFARE ENGINEERING STATION (4 AREAS) | HWY 308, E END | KEYPORT | WA | 98345 | NAVY | 3005, 3010, 3016, 103c, 103a | 20A
o | KEYPORT NAVAL UNDERSEA WARFARE ENG STATION | HWY 306, E END | KEYPORT | WA | 98345 | NAVY | 3005, 3010, 3016, 103c, 103a |

Federal Agency Hazardous Waste Compliance Docket NFRAP Status Facilities Update
Facility name | Facility address | City | State | Zip | Agency | Reporting mechanism
EAKER AIR FORCE BASE | 97 CSG/DEEV | EAKER AFB | AR | 72315-5000 | AIR FORCE | 3005 3010 3016 103c
PINE BLUFF ARSENAL | HIGHWAY 65 | PINE BLUFF | AR | 71602 | ARMY | 3005 3010 3016 103c 103a
FDA NATIONAL CENTER FOR TOXICOLOGICAL RESEARCH | 3900 NCTR RD | JEFFERSON | AR | 72079 | HEALTH AND HUMAN SERVICES | 3010
BLM-KAISER EAGLE MOUNTAIN | N OF HWY 10 8M OFF KAISER RD | DESERT CENTER | CA | 92239 | INTERIOR | 103c
IDAHO SPRINGS MERCURY SITE | T35 R73W S36 | IDAHO SPRINGS | CO | 80452 | INTERIOR | 3016 103c
CLAIBORN RANGE, ENGLAND AIR FORCE BASE | LA HWY 488 13M SW OF ALEXANDRIA | ALEXANDRIA | LA | 71301 | AGRICULTURE | 3010
MARTIN MARIETTA AEROSPACE | 13800 OLD GENTILLY ROAD | NEW ORLEANS | LA | 70129 | NASA | 3005 3010 3016 103c
BIA-SHAKOPEE DUMP | SECTION 1 T115N R23W | SHAKOPEE | MN | 55379 | INTERIOR | 103c
CONSTRUCTION BATTALION CENTER GULFPORT | 5200 CBC 2ND STREET | GULFPORT | MS | 39501 | NAVY | 3010 103c 103a
BLM-DUVAL CORPORATION | 20 MILES EAST OF CARLSBAD | CARLSBAD | NM | 88220 | INTERIOR | 103c 3016
BLM-I&W HOT OIL SERVICE | T17S, R31E, SEC21 | LOCO HILLS | NM | 87415 | INTERIOR | 103c 3016
BLM-MARATHON OIL CO., INDIAN BASIN PLANT |  |  | NM |  | INTERIOR | 103c
BLM-TRUTH OR CONSEQUENCES LANDFILL | T13SR4WSEC22NMPH | TRUTH OR CONSEQUENCES | NM |  | INTERIOR | 103c 3016
AMERICAN ANTIMONY CORPORATION | T 26N R. 34E SECTION 28 | LOVELOCK | NV | 89419 | INTERIOR | 103c
INDIAN SPRINGS LANDFILL |  | CLARK COUNTY | NV |  | INTERIOR | 103c
NIAGARA STATION |  | YOUNGSTOWN | NY | 14174 | GENERAL SERVICES ADMINISTRATION | 103c
PLANT #3 (MCDONNELL-DOUGLAS CORP) | 2000 N. MEMORIAL AVENUE | TULSA | OK | 74101 | AIR FORCE | 3005 3010 3016 103c
BIA-CADDO COUNTY LANDFILL #2 | S2 SE4 SEC4 T7N R13W | CARNEGIE | OK |  | INTERIOR | 103c
BIA-CADDO COUNTY LANDFILL #3 | NE/4 NE4 SEC10 T7N R13W | CARNEGIE | OK |  | INTERIOR | 103c
BIA-CADDO COUNTY LANDFILL #4 | W2 NW4 SEC35 T8N R13W | CARNEGIE | OK |  | INTERIOR | 103c
BIA-CADDO COUNTY LANDFILL #5 | W/2 SW/4 SEC 16 T6N R11 | APACHE | OK |  | INTERIOR | 103c
BIA-CADDO COUNTY LANDFILL #6 | SE4 SE4 SEC34 T9N R12 | FORT COBB | OK |  | INTERIOR | 103c
BIA-CADDO COUNTY LANDFILL #7 | SW4 NE4 SEC14 T9N R12W | FORT COBB | OK |  | INTERIOR | 103c
BIA-CADDO COUNTY LANDFILL #8 | NE4 NE4 SEC22 T9N R12W | FORT COBB | OK |  | INTERIOR | 103c
NEW ARMY AVIATION SUPPORT | ISLA GRANDE ROAD OFF HACIA FERNANDEZ | SAN JUAN | PR |  | ARMY | 103c
LA PORTE AIR NATIONAL GUARD | HIGHWAY 225 | LAPORTE | TX | 77571 | AIR FORCE | 103c
RANDOLPH AIR FORCE BASE | 12 ABG/DE | SAN ANTONIO | TX | 78150 | AIR FORCE | 3005 3010 3016 103c 103a
FORT SAM HOUSTON | BLDG 1183 TAYLOR ROAD | SAN ANTONIO | TX | 78234 | ARMY | 3005 3010 3016 103c
GALVESTON FEDERAL ARMORY | 5301 AVENUE SOUTH | GALVESTON | TX | 77550 | ARMY | 3016 103c
SAGINAW (CSMS #1) | 855 E. INDUSTRIAL | SAGINAW | TX | 76131 | ARMY | 3016
SPR-BIG HILL | 23 MI SW OF PT. ARTHUR | PORT ARTHUR | TX | 77641 | ENERGY | 103c
FORT WORTH FEDERAL SUPPLY CENTER | 501 FELIX STREET | FORT WORTH | TX | 76101 | GENERAL SERVICES ADMINISTRATION | 3010 103c
NAVAL AIR STATION KINGSVILLE | 554 MCCAIN ST STE 310 | KINGSVILLE | TX | 78363 | NAVY | 3010 103c 103a 3005
CUSTOMS-MILLINGTON ADDITION | 4 BL EAST OF FM 170 | PRESIDIO | TX | 79845 | TREASURY | 103c
GENERAL BILLY MITCHELL FIELD | 440 CSG/DE 300 E. COLLEGE AVE. | MILWAUKEE | WI | 53207 | AIR FORCE | 3010 103c 3016
WYOMING ARNG OMS NO. 4 | 5500 BISHOP BOULEVARD | CHEYENNE | WY | 82009-3320 | ARMY | 103c

[FR Doc. 01-24595 Filed 10-1-01; 8:45 am]

BILLING CODE 6560-50-P